DEPARTMENT OF JUSTICE

[OMB Number 1121-0277]

Agency Information Collection Activities; Proposed Collection and Comments Requested; Reinstatement With Change of Previously Approved Collection #1121-0277: OJJDP's National Training and Technical Assistance Center (NTTAC) Feedback Form Package

AGENCY: Office for Juvenile Justice and Delinquency Prevention, Department of Justice.

ACTION: 30-Day notice.

SUMMARY: The Department of Justice, Office of Justice Programs has submitted the following information collection request to the Office of Management and Budget (OMB) for review and approval in accordance with the Paperwork Reduction Act of 1995.

DATES: Comments are encouraged and will be accepted for an additional 30 days until October 28, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Reinstatement with change of previously approved collection.

2. The Title of the Form/Collection: OJJDP's NTTAC Feedback Form Package.

3. The agency form number: OJJDP's NTTAC, all forms included in package #1121-0277.

4. Affected public who will be asked or required to respond, as well as a brief abstract: Primary: Individuals or households. Other: Federal Government, State, local or tribal government; Not-for-profit institutions; Businesses or other for-profit.

Abstract: The Office for Juvenile Justice and Delinquency Prevention National Training and Technical Assistance Center (NTTAC) Feedback Form Package is designed to collect in-person and online data necessary to continuously assess the outcomes of the assistance provided for both monitoring and accountability purposes and for continuously assessing and meeting the needs of the field. OJJDP's NTTAC will send these forms to technical assistance (TA) recipients; conference attendees; training and TA providers; online meeting participants; in-person meeting participants; and focus group participants to capture important feedback on the recipients' satisfaction with the quality, efficiency, referrals, information, and resources provided and assess the recipients' additional training and TA needs. The data will then be used to advise OJJDP's NTTAC on ways to improve the support provided to its users; the juvenile justice field at-large; and ultimately improve services and outcomes for youth.

5. An estimate of the total number of respondents and the amount of time estimated for an average respondent to respond: It is estimated that 5,066 respondents will complete forms and the response time will range from .03 hours to 1.5 hours.

6. An estimate of the total public burden (in hours) associated with the collection: An estimated 520.5 total annual burden hours are associated with this collection.

If additional information is required, contact: Melody Braswell, Department Clearance Officer, United States Department of Justice, Justice Management Division, Policy and Planning Staff, Two Constitution Square, 145 N Street NE, 3E.405B, Washington, DC 20530.

Dated: September 23, 2021.
Melody Braswell,
Department Clearance Officer for PRA, U.S. Department of Justice.

[FR Doc. 2021-21077 Filed 9-27-21; 8:45 am]

BILLING CODE 4410-18-P